DEPARTMENT OF VETERANS AFFAIRS

Enhanced-Use Lease (EUL) of Department of Veterans Affairs (VA) Real Property for a Mixed-Use Development Including a Permanent Housing Facility in Knoxville, IA

AGENCY: Department of Veterans Affairs.

ACTION: Notice of Intent to Enter into an Enhanced-Use Lease (EUL).

SUMMARY: The Secretary of VA intends to enter into an EUL on 3 parcels of land (163 acres) that comprise the entire Knoxville campus of the VA Central Iowa Healthcare System. The selected lessee will finance, design, develop, construct, manage, maintain and operate the EUL development. As consideration for the lease, the lessee will be required to construct, renovate, operate, and maintain a mixed use development that includes integrated residential, commercial, agricultural and technology components. The residential component will contain a permanent housing facility for homeless and at-risk Veterans and their families where the lessee will give preference and priority placement to Veterans and provide supportive services to Veterans.

FOR FURTHER INFORMATION CONTACT: Edward Bradley, Office of Asset Enterprise Management (044), Department of Veterans Affairs, 810 Vermont Avenue NW., Washington, DC 20420, (202) 461-7778 (this is not a toll-free number).

SUPPLEMENTARY INFORMATION: Title 38 U.S.C. 8161 et seq. states that the Secretary may enter into an enhanced-use lease if he determines that implementation of a business plan proposed by the Under Secretary for Health for applying the consideration under such a lease for the provision of medical care and services would result in a demonstrable improvement of services to eligible Veterans in the geographic service-delivery area within which the property is located. This project meets this requirement.

Approved: October 21, 2011.
Eric K. Shinseki,
Secretary of Veterans Affairs.

[FR Doc. 2011-27911 Filed 10-27-11; 8:45 am]

BILLING CODE 8320-01-P